DEPARTMENT OF AGRICULTURE

Animal and Plant Health Inspection Service

9 CFR Part 93

[Docket No. APHIS-2016-0033]

RIN 0579-AE62

Import Regulations for Horses; Technical Amendments

AGENCY: Animal and Plant Health Inspection Service, Department of Agriculture (USDA).

ACTION: Final rule; technical amendments.

SUMMARY: In a final rule published in the Federal Register on September 14, 2023, and effective on October 16, 2023, we amended the regulations governing the importation of equines to better align our regulations with international standards, as well as to clarify existing policy or intent, and correct inconsistencies or outdated information. However, in amending the regulations for horses that are refused entry, we neglected to account for rare and specific situations in which an imported horse's death during travel can be determined to be unrelated to foreign animal disease risk. Additionally, in aiming to improve the readability of the regulations governing equines imported from Canada, we inadvertently changed the regulations to incorrectly read that certificates for horses from Canada must be issued and endorsed, rather than issued or endorsed, by a salaried veterinarian of the Canadian Government. This document corrects those errors.

DATES: Effective April 8, 2024.

FOR FURTHER INFORMATION CONTACT: Dr. Iwona Tumelty, VS Strategy and Policy, Live Animal Imports, VS, APHIS, 4700 River Road, Unit 39, Riverdale, MD 20737-1231; 301-851-3300.

SUPPLEMENTARY INFORMATION: In a final rule that was published in the Federal Register on September 14, 2023 (88 FR 62993-63004, Docket No. APHIS-2016-0033), and effective on October 16, 2023, we amended the regulations in 9 CFR part 93 governing the importation of equines to better align our regulations with international standards, as well as to add a number of miscellaneous changes that clarified existing policy or intent, and corrected inconsistencies or outdated information.

One of these miscellaneous changes included amending § 93.306 to provide APHIS' policies in the rare instances that a horse arriving at the port of entry is dead upon presentation. In the final rule, we stated that cohort horses arriving in the same shipment as a horse dead upon presentation will also be refused entry. We explained that this change was necessary because diagnostic testing for these horses would not be feasible, as determining what additional testing and quarantine would be necessary to mitigate foreign animal disease risk would require a necropsy of the dead horse, and dead horses are refused entry.

During implementation of the final rule, it was brought to our attention that this neglected to account for situations in which the mortality could be directly attributed to a cause other than foreign animal disease, such as in the case of obvious physical trauma sustained during transport. In these situations, a necropsy of the dead horse would not be necessary because determining whether the cohort horses pose a risk of spreading foreign animal disease would be feasible through current policies for foreign animal disease testing and import quarantine.

We are therefore correcting § 93.306 to account for these situations and state that horses arriving in the same shipment as horses dead upon presentation will be refused entry unless the cause of death can be determined to be unrelated to foreign animal disease.

In the preamble to the final rule, we also stated that we were making non-substantive editorial changes to § 93.317(a), which addresses requirements for horses imported from Canada, to improve readability. During implementation of the final rule, the Competent Authority of Canada alerted us that we had changed this paragraph to read that certificates for horses from Canada must be issued and endorsed, rather than issued or endorsed, by a salaried veterinarian of the Canadian Government. This is incorrect and is not current practice; horses from Canada are accepted for entry into the United States with a certificate that is either issued or endorsed by a salaried veterinarian of the Canadian Government, and we did not propose nor intend to change this regulation. We are therefore correcting § 93.317(a) to read that certificates required for horses from Canada must be issued or endorsed by a salaried veterinarian of the Canadian Government.

List of Subjects in 9 CFR Part 93

Animal diseases, Imports, Livestock, Poultry and poultry products, Reporting and recordkeeping requirements.

Accordingly, we are amending 9 CFR part 93 as follows:

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. Amend § 93.306 by revising the second sentence to read as follows:

§ 93.306 Inspection at the port of entry.

* * * All horses found to be free from communicable disease and not to have been exposed thereto within 60 days prior to their exportation to the United States shall be admitted subject to the other provisions in this part; all other horses, to include horses dead upon presentation, and horses arriving in the same shipment as such horses unless the cause of death can be determined to be unrelated to foreign animal disease, shall be refused entry. * * *

§ 93.317 [Amended]

3. Amend § 93.317, in paragraph (a), in the third sentence, by removing the word “and” after the words “be issued” and adding the word “or” in its place.

Done in Washington, DC, this 1st day of April 2024.
Michael Watson,
Administrator, Animal and Plant Health Inspection Service.

[FR Doc. 2024-07370 Filed 4-5-24; 8:45 am]

BILLING CODE 3410-34-P